DEPARTMENT OF COMMERCE

National Oceanic and Atmospheric Administration

[RTID 0648-XE706]

Endangered Species; File No. 28467

AGENCY: National Marine Fisheries Service (NMFS), National Oceanic and Atmospheric Administration (NOAA), Commerce.

ACTION: Notice; receipt of application.

SUMMARY: Notice is hereby given that Frederick Scharf, Ph.D., University of North Carolina Wilmington, 601 S College Road, Wilmington, NC 28403, has applied in due form for a permit to take Atlantic sturgeon (Acipenser oxyrinchus) and shortnose sturgeon (A. brevirostrum) for scientific research.

DATES: Written comments must be received on or before May 14, 2025.

ADDRESSES: The application and related documents are available for review by selecting “Records Open for Public Comment” from the “Features” box on the Applications and Permits for Protected Species home page, https://apps.nmfs.noaa.gov, and then selecting File No. 28467 from the list of available applications. These documents are also available upon written request via email to NMFS.Pr1Comments@noaa.gov.

Written comments on this application should be submitted via email to NMFS.Pr1Comments@noaa.gov. Please include File No. 28467 in the subject line of the email comment.

Those individuals requesting a public hearing should submit a written request via email to NMFS.Pr1Comments@noaa.gov. The request should set forth the specific reasons why a hearing on this application would be appropriate.

FOR FURTHER INFORMATION CONTACT: Erin Markin, Ph.D., or Shasta McClenahan, Ph.D., (301) 427-8401.

SUPPLEMENTARY INFORMATION: The subject permit is requested under the authority of the Endangered Species Act of 1973, as amended (ESA; 16 U.S.C. 1531 et seq.) and the regulations governing the taking, importing, and exporting of endangered and threatened species (50 CFR parts 222 through 226).

The applicant proposes to continue research on adult, sub-adult, and juvenile Atlantic and shortnose sturgeon to determine their abundance, distribution, habitat use, and migration dynamics in the coastal rivers and estuaries of North Carolina basins (Cape Fear, Neuse, Tar/Pamlico, Roanoke/Chowan). Atlantic and shortnose sturgeon would be captured using gill nets, trammel nets, or trawls, measured, weighed, tagged (PIT, Floy, T-bar), biologically sampled (tissue), and photographed/videoed. A subset of Atlantic sturgeon would be anesthetized and receive an internal acoustic tag. In addition, these same research procedures may be conducted on Atlantic sturgeon captured under other authority in the Frying Pan Shoals area of North Carolina to determine habitat use. The permit would be valid for up to 10 years from the date of issuance.

Dated: April 8, 2025.
Julia M. Harrison,
Chief, Permits and Conservation Division, Office of Protected Resources, National Marine Fisheries Service.

[FR Doc. 2025-06246 Filed 4-11-25; 8:45 am]

BILLING CODE 3510-22-P